FEDERAL COMMUNICATIONS COMMISSION

[ET Docket No. 04-151; WT Docket No. 05-96; DA 07-4605]

Wireless Telecommunications Bureaus Announces Start Date for Licensing and Registration Process for the 3650-3700 MHz

AGENCY: Federal Communications Commission.

ACTION: Notice.

SUMMARY: The Wireless Telecommunications Bureau (WTB or Bureau) announces as the start date for filing applications for nationwide non-exclusive licenses in the 3650-3700 MHz band (3650 MHz band). The Bureau explains how to use the Commission's Universal Licensing System (ULS) to acquire a nationwide non-exclusive license for terrestrial operations in the 3650 MHz band and how to register fixed and base stations under such a license.¹ Mobile and portable stations, which are typically used by consumers, i.e., end users or subscribers, do not require a separate license and do not have to be registered in ULS.

¹ ULS is the consolidated database, application filing system, and processing system for all Wireless Radio Services. ULS supports electronic filing of all applications and related documents by applicants and licensees in the Wireless Radio Services, and provides public access to licensing information.

DATES: The start date for filing applications for nationwide non-exclusive licenses in the 3650-3700 MHz band (3650 MHz band) is November 15, 2007.

ADDRESSES: Federal Communications Commission, 445 12th Street, SW., Washington, DC 20554.

FOR FURTHER INFORMATION CONTACT: Jennifer Mock at 202-418-2487. For additional information and/or assistance, please visit the Web at http://esupport.fcc.gov. Interested persons can also call the FCC at (877) 480-3201 or 717-338-2888 (TTY 717-338-2824). To provide quality service and ensure security, all telephone calls are recorded.

SUPPLEMENTARY INFORMATION: This is a summary of the Commission's Public Notice, released November 14, 2007. The full text of this Public Notice is available for inspection and copying during normal business hours in the FCC Reference Center, Room CY-A-257, 445 12th Street, SW., Washington, DC 20554. The complete text may also be purchased from the Commission's duplicating contractor, Best Copy and Printing, Inc. (BCP), Portals II, 445 12th Street, SW., Room CY-B402., Washington, DC. The complete item is also available on the Bureau's Web site at http://www.fcc.gov/wtb.

I. Background

In 2005 the Commission adopted a Report and Order that revised the FCC's rules to open the 3650 MHz band for terrestrial wireless broadband operations. Recently, the Commission addressed petitions for reconsideration of the Report and Order by affirming the rules and policies adopted in 2005, with one rule modification and a clarification.² These rules involve minimal regulatory burdens to encourage multiple entrants and to stimulate the rapid expansion of broadband services—especially in America's rural heartland—while at the same time ensuring that incumbent, grandfathered satellite Earth stations and Federal radiolocation stations in this band are protected from harmful interference. Briefly, there are four key steps involved in obtaining authority to operate a base or fixed station:

² Wireless Operations in the 3650-3700 MHz Band, ET Docket No. 04-151, Rules for Wireless Broadband Services in the 3650-3700 MHz Band, WT Docket No. 05-96, Report and Order, 20 FCC Rcd 6502 (2005) (2005 Order), recon. granted in part, Memorandum Opinion and Order, FCC 07-99 (rel. June 7 2007) (2007 MO&O).

• Obtain a nationwide, non-exclusive license using ULS.

• Before registering a station, examine ULS for nearby stations.

• Obtain FCC-certified equipment (fixed, base and mobile equipment operating in the band must incorporate a “contention-based protocol”).

• Register each fixed and base station using ULS.

Nationwide, non-exclusive licenses. New terrestrial operations in the band will be licensed on a nationwide, non-exclusive, i.e., shared, basis with other licensees of the band. However, a licensee is not authorized to operate a fixed or base station until that station is registered with the FCC. All terrestrial licensees will have the mutual obligation to cooperate and avoid harmful interference to one another as well as to protect grandfathered operations, as further described below. There are no eligibility restrictions for licenses (other than the statutory foreign ownership restrictions) and no in-band or out-of-band spectrum aggregation limits.³ Licenses will have a 10-year license term and licensees will have a right to a renewal expectancy. Licensees will be free to assign and transfer their nationwide non-exclusive licenses and to “assign” or share fixed and base stations that are registered.⁴ Applicant qualifications for nationwide non-exclusive licenses in the 3650 MHz band will be assessed in accordance with the requirements of FCC Form 601 and the Commission's rules.

³ Certain equipment, based on its FCC certification and as described below, will be restricted to operating only in the lower 25 megahertz of the 3650 MHz band.

⁴ See discussion in Section 0, infra.

Examine ULS for nearby stations. Licensees should examine the registration database ⁵ before registering a station and make every effort to ensure that their fixed or base station will operate at a location, and with technical parameters, that will minimize the potential to cause and receive harmful interference.⁶ We emphasize that coordination is each licensee's responsibility and that manufacturers of FCC-certified equipment are not responsible for coordination.

⁵ Licensees can use the ULS license search located at http://wireless2.fcc.gov/UlsApp/UlsSearch/searchLicense.jsp to search the database for licenses with registered locations. The geosearch capability in ULS will allow interested parties to specify frequencies or a frequency band and geographic information such as county and state, address and radius or geographic coordinates and radius. ULS will return any licenses with registered locations within the search criteria. Future enhancements to the search capability will allow ULS to display each registered location that meets the search criteria with a unique identifier.

⁶ See 47 CFR 90.1319. Channels are available on a shared basis only and will not be assigned for the exclusive use of any licensee. Licensees of stations suffering or causing harmful interference are expected to cooperate and resolve the problem by mutually satisfactory arrangements. Id.

FCC-certified equipment: Licensees should determine, by checking the equipment manual or asking their equipment vendor or manufacturer, whether the equipment they are planning to use is certified by the FCC as “unrestricted” or “restricted.” Fixed, base, mobile, and portable equipment in the 3650 MHz band must use “contention-based protocols” and will be certified as either “unrestricted” or “restricted.” Contention-based protocols will allow multiple users to share the same spectrum by defining the events that must occur when two or more devices attempt to simultaneously access the same channel and establishing rules by which each device is provided a reasonable opportunity to operate.

—Unrestricted contention protocols are broadly compatible and function to prevent interference even with other, dissimilar contention technologies on the market. Equipment using an unrestricted protocol can operate on all 50 megahertz (3650-3700 MHz).⁷

⁷ 47 CFR 90.7, 90.1319(c). For unrestricted devices, the FCC's Equipment Authorization Database and the grant of equipment certification will include note code “UR” and the following text: “This device incorporates an unrestricted contention based protocol. It is capable of avoiding co-frequency interference with devices using other types of contention-based protocols.”

—Restricted contention protocols can prevent interference only with other devices incorporating the same or similar protocols. Equipment using a restricted protocol can operate only on the lower 25 megahertz (3650-3675 MHz).⁸

⁸ 47 CFR 90.1319(c). For restricted devices, the FCC's Equipment Authorization Database and the grant of equipment certification will include note code “RS” and the following text: “This device incorporates a restricted contention based protocol. It may not be capable of avoiding co-frequency interference with devices using other types of contention-based protocols. Operation is restricted to the 3650-3675 MHz band.”

Note: Applications for nationwide, non-exclusive licenses may be filed now and licensees may file station registrations for restricted equipment.

Note: Licensees may NOT file station registrations for unrestricted equipment until the FCC has certified unrestricted equipment for the 3650 MHz band.

Register each fixed and base station. A licensee will be allowed to register all of its fixed and base stations under one nationwide, non-exclusive license. Prior to operating a fixed or base station, the licensee must register it in ULS, which will serve as a common database for licensees to locate each other's operations and consult in meeting their obligation to reach a reasonable accommodation with the other 3650 MHz band operators nearby. Operations cannot begin until the application for registration is in an “Accepted” status and the nationwide license is updated on ULS.⁹

⁹ Submitted registrations are reviewed for, among other things, proximity to grandfathered satellite Earth stations and registration at certain locations require additional approvals; such as, but not limited to, international coordination, Federal coordination, Environmental Assessment, Quiet Zone, etc. Therefore, a registration is not complete until it is in an “Accepted” status and the nationwide license is updated on ULS.

The registration process will also facilitate protection of grandfathered, incumbent stations from interference. There are two types of grandfathered, incumbent stations that new 3650 MHz band licensees must protect: non-Federal and Federal.

—Non-Federal. Absent an agreement between the relevant licensees, new terrestrial stations are prohibited (and thus base and fixed stations cannot be registered) within 150 km circular protection zones established around each grandfathered Fixed Satellite Service (FSS) Earth station.¹⁰

¹⁰ The coordinates of the FSS Earth stations are available at http://www.fcc.gov/ib/sd/3650/. See 47 CFR 90.1331(a)(1). Base and fixed stations may be located within 150 km of a grandfathered satellite Earth station if the licensees mutually agree on such operation. Any negotiations must be conducted in good faith by all parties. See 47 CFR 90.1331(a)(2) and (3).

—Federal. Requests to register base or fixed stations within 80 km circular protection zones established around each of three Federal radiolocation stations will only be placed in an “Accepted” status (and the nationwide license will only be updated) on ULS upon successful coordination by the FCC with the National Telecommunications and Information Administration (NTIA).¹¹

¹¹ See 47 CFR 90.1331(b). The FCC will attempt to coordinate such requests with the National Telecommunications and Information Administration (NTIA) through the Frequency Assignment Subcommittee of the Interdepartmental Radio Advisory Committee (IRAC). Id.

Note: Licensees should also determine if there are any nearby Federal radar systems operating in adjacent bands that could affect their operations by consulting NTIA TR-99-361.¹²

¹² See id. citing Technical Characteristics of Radiolocation Systems Operating in the 3.1-3.7 GHz Band and Procedures for Assessing EMC with Fixed Earth Station Receivers, NTIA TR 99-361, available at http://www.ntia.doc.gov/osmhome/reports/ntia99-361/ntia99-361.pdf.

Mobile and portable stations. These stations are not registered but may only operate if they can positively receive and decode an enabling signal transmitted by a registered base station. This requirement is intended to ensure that mobile and portable stations operate within range of a registered base station(s), thereby avoiding interference to grandfathered FSS and Federal stations. Ordinarily, licensees can meet this requirement by using FCC-approved equipment.

Technical rules. Fixed and base stations will be allowed to operate with a peak power limit of 25 Watts per 25-megahertz bandwidth, and mobile stations with a peak power limit of 1 Watt per 25-megahertz bandwidth. All systems must use a contention-based protocol and only systems using an unrestricted protocol can operate in the 3675-3700 MHz band. Ordinarily, licensees can satisfy these requirements by using FCC-approved equipment.

Note: A nationwide, non-exclusive license does NOT authorize any operation in the 3650 MHz band—unless and until each base and fixed station is registered in ULS.

The Commission noted that the licensing and fixed and base station registration process would be simple and streamlined and that it will be done electronically using ULS.¹³ The Commission also directed and authorized WTB to issue the instant Public Notice, which announces the start date for filing applications for nationwide non-exclusive licenses in the 3650 MHz band as well as procedures for licensees to register fixed and base stations.

¹³ Certain applications for a non-exclusive nationwide license in the 3650 MHz band may be filed manually; however, all applicants are strongly encouraged to file electronically using ULS because licensees who file applications manually risk dismissal of their applications for routine errors.

II. Application for Nationwide, Non-Exclusive Licenses

Applicants for nationwide non-exclusive licenses in the 3650 MHz band will use ULS to file the information request on FCC Form 601 electronically. Applicants can access the ULS Web site at http://wireless.fcc.gov/uls. In order to file an application for a license and to register fixed and base stations in ULS, applicants must have an FCC Registration Number (FRN). If the applicant does not have an existing FRN, it must register and obtain an FRN prior to filing the license application.¹⁴

¹⁴ The FCC Registration Number (FRN) is the 10-digit number assigned to all entities (individual and corporate) that transact business with the FCC (including via ULS) and is not to be confused with the fixed and base station registration procedures discussed below. Applicants can obtain a FRN using the WTB Web site at http://wireless.fcc.gov and selecting “FRN Registration” from the right hand menu under the heading of Licensing.

FCC Form 601 is the Commission's standard application form for wireless licenses ¹⁵ and is required for all filings. To file electronically, applicants should log into ULS using their FRN and password. Once logged in the applicant should select “Apply for a New License” from the menu. On the following page, the applicant should select Wireless Broadband Services in the 3650-3700 MHz Band (Radio Service code NN) from the list of radio services and click continue. The applicant should follow the online prompts to complete the application. For additional help with the filing process, the applicant can click on the Common Questions links that appear on most pages of the ULS License Manager, or click the Help link in the upper right hand corner of the screen. ULS performs edit checks as information is entered. If ULS finds an error, it may not allow the application to be submitted until the error has been corrected.

¹⁵ See 47 CFR 1.913(a)(1). License applicants will not be required to file any associated schedules. Form 601 Main Form and Schedule M are used for registrations, as explained below in Section III.

Applications are assigned file numbers and all applications (and major amendments thereto) that are accepted for filing will be listed in WTB's weekly Public Notice of such applications. An application may be granted at any time if WTB finds that the application meets all of the Commission's requirements (e.g., meets qualification requirements, foreign ownership restrictions, payment obligations), except that certain applications, as discussed below, will not be granted prior to the 31st day following the issuance of a Public Notice accepting the application for filing. When an application is granted, an authorization will be issued to the applicant, and the grant will be placed in WTB's Weekly Action Public Notice. Licenses for terrestrial operations in this band will be issued for the entire bandwidth of the 3650 MHz band (i.e., 3650-3700 MHz).

Applicants that plan to operate under more than one regulatory status, and that seek to register and operate fixed and base stations on a non-common carrier and/or private, internal basis as early as possible, may file one application for common carrier regulatory status and a second application for non-common carrier and/or private, internal regulatory status. Applications to provide non-common carrier service and/or for private, internal communications may be granted any time after they are accepted for filing. Applications that include a request for common carrier regulatory status will not be granted prior to the 31st day following the issuance of a Public Notice accepting the application for filing.¹⁶ This waiting period accommodates the statutory right of petitioners to file petitions to deny against common carrier applications. System limitations preclude WTB from processing a non-common carrier request separately when filed on the same form as a common carrier request. However, applicants that are willing to have their entire application processed under the “common carrier” track, i.e., under the “notice and 30-day waiting period” of Section 1.945(b), can request common carrier and non-common carrier status on a single Form 601.

¹⁶ For example, on November 21, 2007, WTB releases the weekly Public Notice of applications received between November 12-16, 2007, that are acceptable for filing. The 31st day following this Public Notice is Saturday, December 22, 2007, making Monday, December 24, 2007, the first day on which a common carrier application received on November 15-16, 2007, can be granted. A license is required to file fixed and base station registrations so an applicant that plans to request common carrier and non-common carrier/private status may wish to file one application for common carrier regulatory status and a second application for non-common carrier and/or private, internal regulatory status, as applicable, if it seeks to register base and fixed stations and begin non-common carrier/private internal operations as early as possible.

III. Fixed and Base Station Data Registration Process

As discussed above, a licensee must hold a nationwide, non-exclusive license before it can register fixed or base stations, and each base or fixed station must be registered electronically in ULS before it can be operated.¹⁷ To register a station, the licensee will need to provide specific technical details, including whether the equipment uses a restricted (RS) or unrestricted (UR) protocol,¹⁸ the FCC Equipment Identification number (FCC ID number), the base or fixed station's location (latitude and longitude), and other technical parameters, e.g., EIRP, and antenna height above ground. If disputes arise, the FCC ID number generally will allow licensees and the Commission to quickly verify whether the equipment in question is FCC-certified for unrestricted contention-based protocol operation at 3650-3700 MHz or restricted contention-based protocol operation, which is limited to 3650-3675 MHz.

¹⁷ Mobile and portable stations that operate with a peak EIRP of 1 Watt/25 megahertz and receive and decode an enabling signal from a base station are not required to be registered even if used in a fixed mode.

¹⁸ Licenses are advised to consult with the equipment manufacturer or vendor to determine whether the equipment is certified as restricted or unrestricted protocols. That information is also available by searching the Equipment Authorization Database at https://fjallfoss.fcc.gov/oetcf/eas/reports/GenericSearch.cfm using the FCC ID number of the equipment and referring to the note code(s) and text of the equipment approval. For equipment modified according to permissive rules (see infra note 19), the grant of equipment certification may indicate both UR and RS, in which case the status of each licensee's equipment will depend on the version of the radio transmitter installed at each site.

Equipment upgrades by or from the manufacturer. The Commission recognized that manufacturers, through software upgrades or other means, may alter the emission characteristics of previously deployed devices so that they move from the restricted to the unrestricted category. To the extent that this occurs, the manufacturer will be responsible for complying with the Commission's equipment certification rules.¹⁹ However, to the extent that a licensee's previously registered equipment is then upgraded, the affected licensee must update its base and fixed station registrations to reflect this change (and the registration application must be in an “Accepted” status and the nationwide license updated on ULS) before the station tunes over 3675-3700 MHz.

¹⁹ See also 47 CFR 2.944 (Software defined radios) and 2.1043 (Changes in certificated equipment) which describe the certification requirements for modified equipment. Section 2.1043(a) sets out the conditions under which a new grant of certification is required, and Section 2.1043(b) sets out three categories of permissive changes that may be made without the application for and grant of new certification. In two of the three categories of permissive changes, the modified equipment shall not be marketed under the existing grant of certification prior to acknowledgement by the Commission that the change is acceptable. See 47 CFR 2.1043(b)(2),(3). Equipment not originally certified as software defined radio may not be upgraded in the field for the new frequency band or power level without obtaining a new grant of certification (and a new FCC Identifier).

The process of electronically registering stations in ULS will begin when a licensee enters its FRN and password. Once the licensee is logged in, it should select “My Licenses” from the menu. At this point, the licensee will be presented with a list of call signs assigned to its FRN. The licensee should then click on the nationwide non-exclusive (NN radio service) call sign under which it intends to register its stations, and then click on the link labeled “Register Locations.” The licensee should then click on the link labeled “Add New Location.” Clicking on this link will step the licensee through the filing process for registering a new fixed or base station. If the proposed station registration requires an environmental assessment or is located in a quiet zone, the licensee must specify this fact on Schedule M and provide any necessary information in accordance with the instructions and FCC Rules. At this time, the complete registration process must be repeated for each individual location that the licensee wishes to register; however, batch filing will be available to licensees who have tested this process with us and have been granted approval to register their fixed and base stations in this fashion.

The ULS electronic form performs edit checks as information is entered. For instance, ULS will verify that the specified power and other technical parameters are within the limits specified in the FCC rules. Based on the licensee's response, ULS will also determine whether the registrant is eligible for the full 50 MHz of spectrum based on the use of an unrestricted protocol or whether the registrant is limited to the use of the lower 25 MHz of the band based on the use of a restricted protocol. Finally, as part of the nightly processing, ULS will automatically, based on the station's coordinates, determine whether the base station is in an area requiring international coordination or whether the station is within one of the protection zones established around the three grandfathered Federal radiolocation stations or the grandfathered FSS Earth stations. For those licensees attempting to locate stations within the protection zones around the three grandfathered Federal sites, the Commission will refer those applications to the Frequency Assignment Subcommittee of the Interdepartment Radio Advisory Committee. Stations may only be located within the protection zone of a grandfathered FSS station if an agreement is negotiated between the parties. If a station is located within the protection zone of a grandfathered FSS station and the licensee does not certify that they have negotiated an agreement with the grandfathered FSS licensee, ULS will dismiss the registration application.²⁰

²⁰ Future enhancements to ULS may provide an alert to the licensee at the time of data entry indicating that they are attempting to register a station within the protection zone of a grandfathered earth station. In the meantime, to avoid dismissal, licensees should consult the list of grandfathered FSS earth stations located at http://www.fcc.gov/ib/sd/3650/ prior to filing to determine if they are in a location that would require negotiating an agreement with a grandfathered FSS earth station.

Station registrations will not be placed on Public Notice as a matter of routine unless they raise a matter of public significance (e.g., environmental concerns).²¹ When the FCC accepts an individual fixed or base station registration, ULS will be updated and the licensee will be notified by letter. The licensee is not authorized to operate the station until the application for registration is in an “Accepted” status and the nationwide license is updated on ULS. Individual station registrations will be available for public inspection through ULS electronically. We note, however, that under the current ULS system, the printed copy of the nationwide non-exclusive license will not be updated to reflect station registrations and will not be re-issued when individual stations are registered with that call sign.

²¹ See, e.g., 47 CFR 1.933(a)(3) (categories of information of public significance include special environmental considerations as required by part 1, FCC Rules).

IV. License Modifications; Transfers and Assignments

Modifications to nationwide non-exclusive licenses in the 3650 MHz band will be limited to changing the data on the FCC Form 601 Main Form, which contains administrative data and certifications. Modifications to the non-exclusive nationwide license may be filed electronically using ULS. To file, applicants should log into ULS using their FRN and password. Once logged in, the applicant should select “My Licenses” from the menu. At this point, the licensee will be presented with a list of call signs assigned to its FRN. The licensee should then select the nationwide non-exclusive (NN radio service) call sign that it intends to modify and click on the update link in the navigation menu at the right side of the screen. The licensee should follow the online prompts to complete the application. For additional help with the filing process, the applicant can click on the Common Questions links that appear on most pages of the ULS License Manager, or click the Help link in the upper right hand corner of the screen. Modifications to the non-exclusive nationwide license must be filed independent of any filing involving registration of fixed and base stations.

Wireless licensees in the 3650 MHz band may assign or transfer their nationwide non-exclusive licenses using FCC Form 603. A licensee can only assign or transfer its entire non-exclusive license and it cannot engage in partitioning or disaggregation. Any fixed or base stations registered under a nationwide non-exclusive license will remain associated with that license during a full assignment or transfer. Licensees can NOT file applications on Form 603 to “assign” individual stations registered under their nationwide non-exclusive license to another nationwide non-exclusive licensee. Rather, licensees are free to make and record such transactions by having the first licensee delete the registered station(s) from its license and having the second licensee register the station(s) under its license.

V. Modification of Fixed and Base Station Registrations

Modifications to fixed or base station registrations must be done electronically through ULS. A licensee will initiate the modification process by going to the ULS web site and entering its FRN and password. Once the licensee is logged in, they should select “My Licenses” from the menu. At this point, the licensee will be presented with a list of call signs assigned to their FRN. The licensee should then click on the nationwide non-exclusive (NN radio service) call sign containing the station it wishes to modify, and then click on the link labeled “Register Locations.” The licensees will then be presented with a list of stations associated with that license. Station registrations can be modified by clicking on the desired station link. The process described above must be repeated for each station to be modified. [?USGPO Galley End:?]

To amend the data on an individual station registration which is not yet in an “Accepted” status on ULS, the process is as follows: The licensee must go to the ULS Web site and enter its FRN and password. Then the licensee should click on the link labeled “My Applications” and then click on the link labeled “Pending” to display a list of applications, which will include pending registrations. The pending station registration can be amended by clicking on the file number of the desired pending registration and then clicking on the link labeled “Update.” Under electronic filing, the previously entered data from Schedule M will be displayed and the licensee will be allowed to change the data. The process described above must be repeated for each pending registration that is to be amended.

VI. Filing and Regulatory Fees

The 3650 MHz band is licensed as a land mobile service, under part 90 of the FCC's Rules, for non-exclusive wireless operations on a Commercial Mobile Radio Service (CMRS) basis and/or on a Private Mobile Radio Service (PMRS) basis.²² Such applications are subject to filing fees under section 1.1102 and regulatory fees under section 1.1152.²³ The Commission's rules exempt certain applicants from filing and/or regulatory fees.²⁴

²² Commercial mobile radio service is a mobile service that is: (a)(1) Provided for profit, i.e., with the intent of receiving compensation or monetary gain; (2) an interconnected service; and (3) available to the public, or to such classes of eligible users as to be effectively available to a substantial portion of the public; or (b) the functional equivalent of such a mobile service described in paragraph (a). See 47 CFR 20.3. Private Mobile Radio Service is a mobile service that is neither a commercial mobile radio service nor the functional equivalent of a service that meets the definition of commercial mobile radio service. Id.

²³ See 47 CFR 1.1102 (item 6 sets filing fees for land mobile operations); 1.1152 (item 4 sets regulatory fee for PMRS land mobile, item 6 sets the regulatory fee for CMRS land mobile). Additional information about the fees is available in the Wireless Telecommunications Bureau Fee Guide. See infra note 26.

²⁴ See 47 CFR 1.1114, 1.1162 (exemptions from filing and regulatory fees, respectively).

Listing the current fees in this public notice would disserve applicants because the Commission adjusts filing and regulatory fees periodically as required by several statutes.²⁵ Applicants and licensees must check the Wireless Telecommunications Bureau Fee Filing Guide for current fees.²⁶ Nonexempt applicants for nationwide non-exclusive licenses in the 3650 MHz band will be subject to application filing and regulatory fee categories as follows:

²⁵ See 47 U.S.C. 158(b)(1), 159(b)(2).

²⁶ See http://www.fcc.gov/fees/appfees.html and click on the link to the latest Wireless Telecommunications Bureau Fee Filing Guide, or call 1-877-480-3201.

• New PMRS non-exclusive nationwide license applications: Fee type code PALR.²⁷

²⁷ An application for authorization to provide common carrier radio service (Main Form Item 41), mobile radio service (Main Form Item 42), and service interconnected to the public telephone network (Main Form Item 43) should be filed using the PALM fee type code even if the application also seeks authority for non-common carrier radio service and/or private, internal communications (Item 41) and/or for fixed operation (Item 42).

• New CMRS non-exclusive nationwide license applications: Fee type code PALM.

• Modification of PMRS or CMRS non-exclusive nationwide license applications: Fee type code PALM.

• PMRS or CMRS Assignments of Authorization: Fee type code PALM.

• PMRS or CMRS Transfers of Control applications: Fee type code PATM.

Individual transmitter location registrations on ULS are not subject to filing fees.

VII. Database Accuracy Procedures

In the 2005 Order, the Commission stated that “in order to keep the ULS licensing and registration database accurate and up-to-date, we delegate to the WTB the authority to adopt rules regarding the reporting of database information including reporting of any license or station transfers. The WTB will issue a Public Notice seeking comment on these issues, if needed.” ²⁸

²⁸ 2005 Order, 20 FCC Rcd at 6513-14 ¶ 32; see also 2005 Order at 6536 ¶ 103 (ordering clause granting WTB delegated authority “to adopt requirements regarding the reporting of registration and licensing information, pertaining to the 3650 MHz Wireless Broadband Services, in the Universal Licensing System database.”).

The public will be able to examine the registration database online, through ULS, to determine locations of fixed and base stations. More specifically, the database will allow applicants and licensees to identify the location of base and fixed stations in the 3650 MHz band to facilitate cooperation among users and protection of grandfathered stations from interference. The database will also permit the Commission to monitor the use of this spectrum as new technologies and services develop.

Over time, the utility of the database will be diminished if registration data becomes outdated or otherwise inaccurate. Thus, we emphasize that the requirement to register fixed and base stations prior to operation is ongoing—operating previously registered but subsequently modified equipment or operating parameters would subject the operator to enforcement action. The Commission's rules also require registrations for unused fixed and base stations to be deleted.²⁹ For purposes of this requirement, we will generally consider a fixed or base station to be “unused” if it has not operated for one year or more.³⁰ Also, as noted above, licensees must update their base and fixed station registrations to reflect changes resulting from equipment manufacturer's software upgrades.

²⁹ See 47 CFR 90.1307.

³⁰ See generally 47 CFR 90.157(a) (“[u]nless stated otherwise in this part or in a station authorization * * * any station which has not operated for one year or more is considered to have been permanently discontinued.”).

Additional reporting or periodic certification requirements may be necessary to maintain accurate and current data. However, rather than adopting or seeking comment on additional measures at this juncture, the WTB is reserving the right to revisit this matter in the future after the Bureau, as well as licensees, have the opportunity to gauge the effectiveness of the existing requirements for this new service.

Federal Communications Commission.
Joel D. Taubenblatt,
Acting Deputy Chief, Wireless Telecommunications Bureau.

[FR Doc. 07-6229 Filed 12-28-07; 8:45 am]

BILLING CODE 6712-01-P